DEPARTMENT OF STATE

[Public Notice: 12912]

Notice of Department of State Sanctions Actions

ACTION: Notice.

SUMMARY: The U.S. Department of State is publishing the names of one or more persons that have been placed on the Department of the Treasury's List of Specially Designated Nationals and Blocked Persons (SDN List) administered by the Office of Foreign Asset Control (OFAC) based on the Department of State's determination, in consultation with other departments, as appropriate, that one or more applicable legal criteria were satisfied. All property and interests in property subject to U.S. jurisdiction of these persons are blocked, and U.S. persons are generally prohibited from engaging in transactions with them.

DATES: This action was issued on March 31, 2025. See SUPPLEMENTARY INFORMATION section for applicable dates.

FOR FURTHER INFORMATION CONTACT: Aaron P. Forsberg, Director, Office of Economic Sanctions Policy and Implementation, Bureau of Economic, Energy, and Business Affairs, Department of State, Washington, DC 20520, tel.: (202) 647 7677, email: ForsbergAP@state.gov.

SUPPLEMENTARY INFORMATION:

Notice of Department of State Action

On March 31, 2025, the Department of State, in consultation with other departments, as appropriate, determined that the property and interests in property subject to U.S. jurisdiction of the following persons are blocked under the relevant sanctions authority listed below.

Individuals

BILLING CODE 4710-07-P

Hugo Y. Yon,
Principal Deputy Assistant Secretary, Bureau of Economic, Energy, and Business Affairs, Department of State.

[FR Doc. 2026-01364 Filed 1-23-26; 8:45 am]

BILLING CODE 4710-07-C